DEPARTMENT OF TRANSPORTATION

Federal Highway Administration

[Docket No. FHWA-2024-0027]

Notice of Intent To Prepare an Environmental Impact Statement

AGENCY: Federal Highway Administration (FHWA), Department of Transportation (USDOT).

ACTION: Notice of intent to prepare an environmental impact statement (EIS).

SUMMARY: FHWA, in coordination with the Minnesota Department of Transportation (MnDOT), is issuing this Notice of Intent (NOI) to solicit comment and advise the public, agencies, and stakeholders that an Environmental Impact Statement (EIS) will be prepared to study potential improvements to the Highway 252 (Hwy 252) corridor in Hennepin County from Highway 610 (Hwy 610) to the Hwy 252/Interstate 94 (I-94)/Interstate 694 (I-694) interchange, and the I-94 corridor from the Hwy 252/I-94/I-694 interchange to North Fourth Street and North Third Street in downtown Minneapolis. This notice also requests identification of potential alternatives, information, and analyses relevant to the proposed action. Persons or agencies who may be affected by the proposed Hwy 252/I-94 Project (Project) are encouraged to comment on the information in this NOI. All comments received in response to this NOI document will be considered and any information presented herein, including the preliminary alternatives and identified impacts, may be revised in consideration of the comments.

DATES: Comments must be received on or before May 15, 2024.

ADDRESSES: This NOI and Additional Project Information Documents are available in the docket referenced above at www.regulations.gov and on the Project website located at www.dot.state.mn.us/metro/projects/hwy252study. The Additional Project Information Documents can also be mailed upon request. Interested parties are invited to submit comments by any of the following methods:

Website: For access to the documents, go to the Federal eRulemaking Portal located at www.regulations.gov or the Project website located at www.dot.state.mn.us/metro/projects/hwy252study. Follow the online instructions for submitting comments.

Mailing address or for hand delivery or courier: Federal Highway Administration Minnesota Division, Attn: Anna Varney, 180 East Fifth Street, Suite 930, Saint Paul, MN 55101.

All submissions should include the agency name and the docket number that appears in the heading of this notice. All comments received will be posted without change to www.regulations.gov, including any personal information provided. A summary of the comments received will be included in the Draft EIS.

FOR FURTHER INFORMATION CONTACT:

FHWA: Anna Varney, Major Projects Engineer, Federal Highway Administration—Minnesota Division, 180 East Fifth Street, Suite 930, St. Paul MN 55101; email: anna.varney@dot.gov; 651-291-6117.

MnDOT: Amber Blanchard, Major Projects Manager, Metro District Headquarters, 1500 West County Road B-2, Roseville, MN 55113; email: amber.blanchard@state.mn.us; phone: 651-234-7770.

SUPPLEMENTARY INFORMATION: FHWA and MnDOT are committed to public involvement in the Project. All public comments received in response to this notice will be considered and potential revisions made to the information presented herein as appropriate. The environmental review of transportation improvement alternatives for the Hwy 252/I-94 study area will be conducted in accordance with the requirements of the National Environmental Policy Act (NEPA) of 1969, as amended (42 United States Code [U.S.C.] 4321, et seq.), 23 U.S.C. 139, Council on Environmental Quality (CEQ) regulations implementing NEPA (40 Code of Federal Regulations [CFR] 1500-1508), FHWA regulations implementing NEPA (23 CFR 771.101-771.139), and applicable Federal, State, and local laws and regulations.

Additional Project Information Documents prepared by MnDOT in coordination with FHWA are available in the docket and on the Project website include: Scoping Document/Draft Scoping Decision Document (SD/DSDD), Scoping Decision Document (SDD), Public Engagement Plan, Agency Coordination Plan and Evaluation Process Figure.

Background

FHWA and MnDOT are exploring opportunities to improve safety and mobility for people walking, biking, using transit and driving on and/or across Hwy 252 and I-94 in the cities of Brooklyn Park, Brooklyn Center, and Minneapolis, Minnesota. The Project corridor is approximately 12 miles long, following the Hwy 252 corridor from Hwy 610 to the Hwy 252/I-94/I-694 system interchange, and the I-94 corridor from the Hwy 252/I-94/I-694 system interchange to North Fourth Street and North Third Street in downtown Minneapolis.

Since 2016, several transportation studies have identified and analyzed existing safety, congestion, and neighborhood connectivity issues along the Project corridor. In 2017, Metropolitan Council and MnDOT completed a Principal Arterial Intersection Conversion Study which identified the Hwy 252 corridor as a high-priority corridor. In 2018 and 2019, Hennepin County led an Environmental Assessment (EA) process for the corridor. Due to the magnitude and complexity of the Project, as well as the amount of public input received during the EA phase, MnDOT and FHWA made the decision in 2020 to prepare an EIS.

In 2021, the Project entered a scoping phase resulting in the development of a Project SD/DSDD and Project SDD which provides initial documentation of the proposed action and need for the Project and early decisions made in accordance with the Minnesota Environmental Policy Act (MEPA) and Minnesota Rules 4410. The Project SDD is intended to reduce the scope and bulk of the EIS by identifying a reasonable range of alternatives as well as substantive issues and level of detail to be studied in the EIS. Community and agency engagement in support of this process was robust and generated substantial feedback.

The Purpose and Need for the Proposed Action

The purpose of the Project is to improve the safe and reliable movement of people and goods across multiple modes on and across Hwy 252 and I-94 between Hwy 610 in Brooklyn Park and North 4th Street in Minneapolis. The Purpose and Need Statement Report appended to the Project SD/DSDD includes a detailed description of existing conditions in the Project study area. Topics addressed include corridor history; existing traffic and physical characteristics; existing transit service (bus routes, park and ride facilities, existing transit advantages); corridor demographics; pedestrian and bicycle infrastructure; and previous studies. The following needs have been identified for the study:

(a) Vehicle Safety

The vehicle safety performance of Hwy 252 is considered deficient based on number of crashes, crash rates, and crash indices. Most Hwy 252 crashes occur at the 85th Avenue intersection in Brooklyn Park and at the 66th Avenue intersection in Brooklyn Center. Over the 4-year period from 2016 to 2019, a total of 1,512 crashes were reported on Hwy 252, of which 654 occurred at intersections. Eleven of the 1,512 crashes resulted in a fatality or severe injury. The crash rate at each of the 6 intersections along Hwy 252, as well as the non-intersection crash rate, was above the critical crash rate, which indicates that there is a vehicle safety concern.

I-94 also experiences a high number of crashes for this facility type. There were 914 reported crashes on I-94 between 2016 and 2019 including 5 fatal crashes and 5 serious injury crashes. The crash rate on I-94 during this time period was also above the critical crash rate, again indicating a vehicle safety concern.

(b) Vehicle Mobility Including Transit

The vehicle mobility performance of Hwy 252 is considered deficient based on operations and travel time reliability during peak periods. The congestion on Hwy 252 is expected to get worse in the future with the No Build Alternative. Northbound I-94 experiences congestion during the afternoon peak period because of operations at the I-94/I-694/Hwy 252 system interchange and traffic queues spilling back from I-694. The I-94 corridor within the Project limits has one of the highest express bus ridership numbers in the Twin Cities Metropolitan Area (based on 2019 ridership data). As congestion increases under the No Build Alternative, it will be important to maintain bus on-time performance on Hwy 252 and I-94 and potentially mitigate future sources of bus delay along the corridor.

(c) Walkability and Bikeability

Hwy 252 and I-94 create physical barriers to east-west travel for pedestrians and bicyclists in the Project area communities. Pedestrian and bicycling traffic crossing Hwy 252 is likely low due to perceptions of unsafe conditions for people crossing the corridor by foot or bike. Hwy 252 can be challenging and uncomfortable to cross for some pedestrians and bicyclists due to the number of lanes, crossing distances, and vehicle speeds. Multiple fatal crashes involving motor vehicles and vulnerable users have occurred in the Project area (e.g., pedestrians and bicyclists). Between 2016—2019, pedestrian or bicycle crashes with vehicles resulted in one fatality and two serious injuries.

Pedestrians and bicyclists can also experience long delay times when waiting to cross Hwy 252. Once able to cross, the signal cycle time may not feel adequate for some users. The I-94 crossing experiences have varying degrees of pedestrian and bicycle levels of service at the various locations throughout the corridor.

Purpose and Need Development

The Purpose and Need statement explains why MnDOT is undertaking the proposed action and what its objectives are. The identified needs are transportation deficiencies or problems to be addressed. The “Purpose” is a broad statement of the primary intended transportation result and other related objectives to be achieved by a proposed transportation improvement. The Draft EIS will include the Purpose and Need statement and supporting documentation, including data and public input summary developed during the SD/DSDD phase. The agency may consider revisions to the Purpose and Need statement if new substantiating transportation data or information is learned through the comment period on this notice.

A Preliminary Description of the Proposed Action and Alternatives the Environmental Impact Statement Will Consider

FHWA and MnDOT propose improvements to 12 miles along the Hwy 252 and I-94 corridor, including, but not limited to, converting Hwy 252 to a grade separated freeway with interchanges, adding managed lanes, and providing bicycle/pedestrian grade separated crossings. Corridor elements for the Project have been evaluated in the SD/DSDD based on a 3-step Alternatives Evaluation Process as shown in Figure 6.1 in the SD/DSDD:

• Step 1: Identified corridor elements and determined if these elements would address the problems that led to the initiation of the Project.

• Step 2: Developed corridor elements and evaluated the transportation performance of these elements (qualitative and quantitative assessment). Conducted initial qualitative assessment of social, economic, and environmental impacts.

• Step 3: Refined and evaluated the transportation performance of corridor elements, including location and type of access on Hwy 252. Refined and evaluated prudent additional connections across I-94 and evaluated the number of lanes and what type of lanes on Hwy 252 and I-94. Qualitative and quantitative evaluation of social, economic, and environmental (SEE) impacts. The outcome of Step 3 was the identification of corridor elements and alternatives for further study in the Draft EIS.

Using this Alternatives Evaluation Process, a wide range of potential corridor elements were identified for Hwy 252 and I-94 in the SD/DSDD. Hwy 252 and I-94 elements for corridor alternatives were evaluated independently from one another during the scoping process using evaluation criteria established for their respective impact areas and their respective performance. Based on the Step 2 evaluation of Hwy 252 and I-94 elements, many corridor alternatives were dismissed from further consideration based on performance measures used to evaluate their ability to address the transportation Purpose and Need.

Step 3 included qualitative and quantitative transportation and social, economic, and environmental (SEE) performance measures. The SD/DSDD includes a traffic analysis for corridor elements and corridor alternatives, including traffic modeling methodologies and travel demand forecasts. Additional information on the Range of Alternatives is also provided in the SD/DSDD and SDD.

Below are descriptions of the No Build Alternative and Corridor Elements recommended in Step 3 of the Alternative Evaluation to be studied further in the EIS in Step 4 as outlined in the Evaluation Process Figure in the docket.

(a) No Build Alternative

Documentation of a No Build Alternative is required as part of the NEPA and MEPA processes to act as a baseline scenario in the alternatives screening and evaluation process. The No Build Alternative would maintain the current roadway geometry, lane configuration, and other existing conditions within the logical termini with no additional improvements to address needs in the Hwy 252/I-94 study area. The No Build Alternative presumes that there will be ongoing preventative maintenance work but does not provide either the scope of preventative maintenance or any environmental clearance. The No Build Alternative includes maintaining the existing number of lanes, intersections, overpass bridges, transit advantages, and pedestrian and bicycle facilities on Hwy 252 and I-94

(b) Build Alternatives

MnDOT and FHWA will follow an iterative stepped process to select a preferred alternative. The Draft EIS will build upon and refine the alternatives that were developed and retained from the DSDD/SDD (Steps 1-3). The Draft EIS will assess whether the Hwy 252 corridor should go over or under the local crossroad at the potential interchange locations (Step 4—Phase 1A), as well as consider a variety of access combinations along Hwy 252 (Step 4—Phase 1B). Each alternative to be studied in the Draft EIS will cover the entire 12-mile Project corridor and include a combination of one of the Hwy 252 corridor elements retained from the SDD incorporating the recommendations from Step 4—Phases 1A and 1B with one of the I-94 corridor elements retained from the SDD (Step 4—Phase 2)

Hwy 252

Additional details on the criteria used to refine Hwy 252 access combinations and corridor elements are provided in the SD/DSDD.

Hwy 252 Corridor (Over or Under) Local Road

Step 4—Phase 1A of the Draft EIS: An evaluation of the SEE impacts of having Hwy 252 over or under the local road will be conducted to select a recommended vertical location of the Hwy 252 corridor at each interchange location.

Hwy 252 Access Combinations

Step 4—Phase 1B of the Draft EIS: Following the identification of the recommended over/under location selected, access combinations considered in the SDD will be evaluated to identify the level of access to be retained at 6 existing intersections along the Hwy 252 corridor. Each access combination is a permutation of full access, partial access, and closures, which will be studied in the Draft EIS:

• Access Combination 1—Full access interchanges on Hwy 252 at 85th Avenue, Brookdale Drive, and 66th Avenue. Pedestrian and bicycle access only at Humboldt Avenue, 73rd Avenue and 70th Avenue.

• Access Combination 2—Full access interchanges on Hwy 252 at 85th Avenue and 66th Avenue. Partial access interchanges at Brookdale Drive and 73rd Avenue. Pedestrian and bicycle access only at Humboldt Avenue and 70th Avenue.

• Access Combination 3—Full access interchange on Hwy 252 at 85th Avenue. Partial access interchanges at Brookdale Drive and 73rd Avenue. Pedestrian and bicycle access only at Humboldt Avenue, 70th Avenue and 66th Avenue.

• Access Combination 4—Full access interchanges on Hwy 252 at 85th Avenue, Brookdale Drive, and 70th Avenue. Pedestrian and bicycle access only at Humboldt Avenue, 73rd Avenue and 70th Avenue.

• Access Combination 5—Full access interchanges on Hwy 252 at 85th Avenue and 73rd Avenue. Pedestrian and bicycle access only at Humboldt Avenue, 70th Avenue and 66th Avenue.

Hwy 252 Corridor Elements

Step 4—Phase 2 of the Draft EIS: FHWA and MnDOT are currently considering three corridor elements identified in the SDD on Hwy 252, using the recommended Hwy 252 vertical location and recommended access combination along Hwy 252 as determined in Step 4—Phases 1A and 1B. Three Hwy 252 corridor elements will be combined with applicable I-94 corridor elements to form up to ten whole corridor alternatives (see next section):

• Element 5—Convert Hwy 252 to 4-lane freeway with interchanges with bus-only shoulders.

• Element 6—Convert Hwy 252 to 6-lane freeway with interchanges with bus-only shoulders.

• Element 7—Convert Hwy 252 to 6-lane freeway with two managed lanes.

I-94

Additional details on the criteria used to refine I-94 corridor elements are provided in the SD/DSDD.

I-94 Corridor Elements

Step 4—Phase 2 of the Draft EIS: FHWA and MNDOT are considering 5 corridor elements on I-94 to be combined with the 3 Hwy 252 corridor elements (see previous section) to form up to 10 whole corridor alternatives:

• Element A—No change on I-94

• Element B—Convert one southbound I-94 lane from I-694 to North Fourth Street to a managed lane with a direct connection to downtown Minneapolis.

• Element D—Convert one southbound and one northbound I-94 Lane from I-694 to North Fourth Street to managed lanes with a direct connection to downtown Minneapolis.

• Element G—Build one southbound I-94 Lane from I-694 to Dowling Avenue as a managed lane, convert one southbound I-94 Lane from Dowling Avenue to North Fourth Street to a managed lane with a direct connection to downtown Minneapolis.

• Element J—Build one southbound and one northbound I-94 Lane from I-694 to Dowling Avenue as managed lanes, convert one southbound and one northbound I-94 Lane from Dowling Avenue to North Fourth Street to a managed lane with a direct connection to downtown Minneapolis.

Reasonable Range of Alternatives

In Step 4—Phase 1A, FHWA and MnDOT anticipate evaluating the separation of Hwy 252 over or under the local road at each of the potential interchange locations before proceeding to Step 4—Phase 1B, the evaluation of the 5 Hwy 252 access combinations elements. Incorporating the recommendations from Step 4—Phases 1A and 1B with the Hwy 252 corridor elements, FHWA and MnDOT will proceed to Step 4—Phase 2 and evaluate up to 10 Hwy 252/I-94 corridor alternatives. These 10 corridor alternatives are made up of the three Hwy 252 corridor elements combined with the 5 I-94 corridor elements as identified in Table 7.3 of the SDD. The 10 corridor alternatives are A.5, A.6, B.7, D.7, G.5, G.6, G.7, J.5, J.6 and J.7.

Other Hwy 252 and I-94 Design Considerations

The following list summarizes Hwy 252/I-94 design considerations to be studied further in the Draft EIS. These will be integrated into the Hwy 252/I-94 corridor alternatives.

• Southbound Hwy 252/I-94 lane configuration moved to the right side of I-94 using a bridge south of the Hwy 252/I-94/I-694 system interchange.

• Hwy 252 grade separated overpasses at non-access locations. This will include dedicated pedestrian/bicycle overpass bridges for non-motorized uses (e.g., overpass bridge with trails and/or sidewalks for pedestrians and bicyclists).

• West River Road reconnection on the east side of Hwy 252 in Brooklyn Park.

• I-94 Pedestrian and bicycle overpass at 62nd Avenue, 61st Avenue and 34th Avenue.

Brief Summary of Expected Impacts

The Draft EIS will further refine and evaluate the Alternatives based on how well they address the transportation problems that led to the initiation of the Project. The Draft EIS will then evaluate the potential SEE effects resulting from the implementation of these refined Alternatives and the No Build Alternative. The following are anticipated to be the most sensitive environmental, economic, and social concerns in the Project area and will be evaluated in detail by MnDOT and FHWA:

• Environmental Justice: There is the potential for impacts to environmental justice (EJ) communities (low-income, minority) due to right-of-way requirements, increases in noise, or other environmental factors. Based on the demographic data collection conducted during the scoping phase, there are identifiable EJ populations in the Project study area for the Project. FHWA and MnDOT will work with the community to avoid, minimize, and mitigate these impacts.

• Wetlands and other aquatic resources: MnDOT completed a Level 2 wetland delineation along Hwy 252 and I-94 in 2018 which identified 4 wetlands, 12 wet ditches, and 18 other aquatic resources within highway right of way. The Draft EIS will include additional wetland information for portions of Project alternatives beyond the existing highway right of way. Supplemental wetland delineations will be prepared as necessary. The Mississippi River impact review will also need coordination with the U.S. Army Corps of Engineers (USACE), Minnesota Department of Natural Resources, and Board of Soil and Water Resources and will occur as part of the Draft EIS.

• Right-of-way acquisitions and relocations: Build alternatives would require a varying number of property acquisitions and relocations. MnDOT and FHWA will work with the impacted stakeholders and designers to minimize the number of impacted parcels. Access combinations alternatives have the greatest number of impacts to right of way. MnDOT will work with the cities of Brooklyn Center and Brooklyn Park to evaluate property impacts versus the benefits received with each alternative.

• Air Quality: MnDOT convened an air quality working group during the EA phase of the Project which includes staff from FHWA, MnDOT, Hennepin County, Minnesota Pollution Control Agency, and Minnesota Department of Health. Coordination with the air quality working group will be reconvened as part of the Draft EIS.

• Noise: An analysis of potential noise impacts to noise-sensitive receptors will be conducted. The addition of interchanges and the anticipated increase in traffic volumes indicate that properties near the corridor could experience elevated noise levels.

In addition to the known resources above, the Draft EIS will also identify impacts to the following resources, as identified in SDD Chapter 9:

• Accessibility

• Active Transportation (Walking, Biking, Rolling)

• Critical Areas (Mississippi River Corridor Critical Area and Mississippi National River and Recreation Area)

• Cultural Resources

• Cumulative Effects

• Economic and Business Impacts

• Erosion Control and Slope Stability

• Excess Material

• Fish and Wildlife

• Floodplains

• Geotechnical and Earthborne Vibrations

• Greenhouse Gas Analysis disclosure only for preferred alternative

• Hazardous Materials, Contaminated Properties

• Indirect Impacts

• Irreversible and Irretrievable Commitment of Resources

• Land use

• Relationship of Local Short-Term Uses Versus Long-Term Productivity

• Social and Neighborhood Impacts

• Utilities

• Visual Quality

• Intermodal Transportation

• Traffic Safety

• Traffic Operations

• Transit

• Vegetation/Cover Types

• Threatened and Endangered Species

• Historic and archaeological sites

• Section 4(f) properties

• Hazardous Waste Sites

The level of review of the identified resources for the EIS will be commensurate with the anticipated effects to each resource from the proposed Project and will be governed by the statutory or regulatory requirements protecting those resources.

The analyses and evaluations conducted for the EIS will identify the potential for effects; avoidance measures; minimization measures; whether the anticipated effects would be adverse; and mitigation measures for adverse effects. Additional information on the expected impacts is provided in the Project SD/DSDD and SDD available for review on the Project website as noted in the ADDRESSES section of this Notice. Comments on the expected impacts to be analyzed in the Draft EIS are welcomed during the NOI comment period.

Agencies, stakeholders, and the public are invited to comment on the anticipated impacts. The environmental impact analysis will be developed once the Alternatives for Study in the Draft EIS and impact categories are refined based on substantive public comment on this notice. The identification of impacts may be amended due to the consideration of public comments. See the SD/SDD and SDD for a more detailed description of the issues requiring analysis in the EIS. The studies to identify the impacts, as well as the analyses of impacts from the retained alternatives, will be presented in the Draft EIS.

Anticipated Permits and Other Authorizations

FHWA, in consultation with MnDOT and Cooperating and Participating Agencies, will develop a schedule, or Permitting Timetable, for the Project. The Permitting Timetable will identify actions and associated milestones for the environmental review process and subsequent agency authorizations. Resource agencies are currently reviewing the Permitting Timetable. The Draft EIS will include the Permitting Timetable. FHWA and MnDOT will coordinate with agencies throughout the project development process for Hwy 252/I-94 to make updates to the Permitting Timetable as appropriate. The SDD Chapter 11 provides additional information regarding the permits anticipated to be needed for the Project. A Section 404 permit with the USACE for impacts to wetlands is the one anticipated federal permit.

Per 23 U.S.C. 139(d)(10), the aforementioned permits and authorizations are typically anticipated to be completed by no later than 90 days after the issuance of the Record of Decision (ROD). However, for this Project, in accordance with 23 U.S.C. 139(d)(10)(C)(ii) FHWA has approved MnDOT's request that those permits and authorizations follow a different timeline because the construction start date is not expected until 2028 or later.

Scoping and Public Review

The following sections outline agency coordination and public engagement processes supporting the Project.

Local Agency Coordination

For the Hwy 252/I-94 EIS, MnDOT and FHWA are the joint lead agencies for the NEPA process and MnDOT is the lead agency for the MEPA process. MnDOT and FHWA will seek input and collaborate with partner agencies throughout the EIS process. Local agency coordination includes involvement with the Technical Advisory Committee (TAC) and Engagement Committee:

• The TAC includes staff from Hennepin County, City of Brooklyn Park, City of Brooklyn Center, City of Minneapolis, MnDOT, FHWA, Metropolitan Council, Metro Transit, and Project Consultants. The TAC meets approximately monthly to provide leadership and guidance for resolution of technical issues, to provide input on public engagement activities and materials, and to provide recommendations to the Policy Advisory Committee (PAC).

• The Engagement Committee is comprised of public engagement staff from MnDOT and partnering agencies. The Engagement Committee advises MnDOT and the Project consultants on engagement strategy, techniques, and key audiences. It reviews engagement materials and furthers the Project's messages across their platforms. The Engagement Committee meets approximately monthly and more often when preparing for and conducting engagement activities.

Cooperating and Participating Agencies

As part of the scoping phase, MnDOT and FHWA identified and invited agencies who would like to serve as Participating and Cooperating Agencies for the Project. Cooperating Agencies are those that have “jurisdiction by law or special expertise”—those that are anticipated to issue permits or approvals for the Project. Participating Agencies are all agencies “with an interest” in the Project—these may include Federal, State, or local agencies. MnDOT and FHWA have prepared an Agency Coordination Plan that will guide FHWA's and MnDOT's interactions with Cooperating and Participating Agencies for the Project. The Agency Coordination Plan describes agency roles and responsibilities, agency expectations, concurrence points, and Project milestones. The Agency Coordination Plan is a living document that is anticipated to evolve over the lifetime of the Hwy 252/I-94 environmental review process. Cooperating and Participating Agency roles are summarized in the SDD.

MnDOT and FHWA followed a merged scoping process to comply with MEPA and NEPA requirements as outlined in Figure 1.1 in the SD/DSDD. Ten Cooperating and Participating Agency meetings have been held to this point during the State and Federal scoping process. The focus of these meetings was to provide Project updates, review Project deliverables, and to collect input from agency representatives. Cooperating and Participating Agency meetings will be on-going through development of the Draft EIS and Final EIS/ROD.

Policy Advisory Committee

The PAC includes elected and appointed officials from MnDOT, State of Minnesota, FHWA, Hennepin County, City of Brooklyn Park, City of Brooklyn Center, City of Minneapolis, and Metropolitan Council. The PAC meets approximately quarterly, and meetings are open to the public. The PAC is not a decision-making body. The roles of the PAC include:

• Guide policy and funding decisions pertaining to the Project.

• Review recommendations from the TAC and provide input on public engagement materials.

• Provide help in identifying important community issues.

• Provide help in communicating with neighboring constituents on Project decision points/major milestones and encourage public participation.

• Provide input as requested by MnDOT.

Beyond their role on the PAC, elected leaders from the cities of Brooklyn Park, Brooklyn Center, and Minneapolis; Hennepin County; and the State will be included in public engagement communications and events.

Public Engagement

EA Phase Engagement

Hennepin County, MnDOT, and Project partners completed three rounds of public engagement in Summer 2018, Winter 2018, and Summer 2019. These rounds of engagement included community workshops, listening sessions, pop-up events, and online surveys. The outcome of the EA phase was a determination by MnDOT and FHWA that the complexity and magnitude of the proposed action for Hwy 252 and I-94 demonstrated prudence to transition to an EIS as the appropriate NEPA class of action.

Scoping Phase Engagement

MnDOT hosted 3 rounds of public engagement during the state and federal scoping process from Spring 2021 through Spring 2023. Public engagement activities included listening sessions, pop-up events, virtual public meetings and community conversations, and in-person open house meetings. More than 830 public comments were submitted during the scoping period.

Comments received reflected preferences for individual alternatives, identified potential Project impacts and expressed related concerns, or suggested variations (e.g., to keep or add additional alternatives). Throughout the scoping process, the Project team used public comments to help identify, develop, and evaluate alternatives. The SDD provides additional information on these engagement activities and outcomes.

Equity and Health Assessment

MnDOT's Sustainability and Public Health Office and MnDOT Metro District conducted an Equity Health Assessment (EHA) of the Project. MnDOT initiated the Hwy 252/I-94 EHA in 2021 as enhanced engagement to pilot a new method for including equity and health information in the environmental review process. The EHA draws from principles and practices of Health Impact Assessment and Community Impact Assessment tools used by public agencies across the country to understand and address equity and health impacts on transportation projects.

During MEPA scoping, MnDOT facilitated the EHA process to help organize and bring forward the equity and health priorities of underserved and overburdened populations. The EHA input provided will be considered during the NEPA and MEPA processes the same as other public comment or feedback. Additional details on the outcomes of this assessment are provided in the Project SDD.

Engagement During the Environmental Process

MnDOT and FHWA have prepared a Public Engagement Plan as well as an Agency Coordination Plan for the Project which is available on the Project website at www.dot.state.mn.us/metro/projects/hwy252study/index.html. The purpose of the Public Engagement Plan is to communicate the engagement strategy during the four phases of the Project (e.g., Purpose and Need Statement, Scoping, Draft EIS, and Final EIS). The Public Engagement Plan identifies the priorities, goals, strategies, messages, and action steps for engaging the public in each phase of the EIS process. The Public Engagement Plan notes the NEPA- and MEPA-required milestones and integrates them into the overall engagement strategy. As engagement occurred during scoping, the Project team responded to the needs and requests of the communities. Any changes in public engagement strategies were guided by the Public Engagement Plan and informed by what the Project team was hearing from the public. The Public Engagement Plan is a living document that is anticipated to evolve over the lifetime of the environmental review process. The public engagement vision for the Project is listed below:

MnDOT, FHWA, and their partners will anticipate and respond to public, stakeholder, and agency engagement needs to facilitate two-way communications that effectively and efficiently navigates the environmental review process, building broad Project understanding along the way.

A Schedule for the Decision-Making Process

Following the issuance of this notice, FHWA and MnDOT will coordinate with the Participating and Cooperating Agencies to confirm study methodologies and analyze Project effects for inclusion in the Draft EIS.

This Project is subject to 23 U.S.C. 139(g)(1)(B)(iii) such that the schedule is consistent with an agency average of not more than two years for completion of the environmental review process, as measured from the date of the publication of the NOI to the ROD. The public engagement plan, agency coordination plan and schedule, developed with input from cooperating and participating agencies and the public, targets 2 years from the NOI to the ROD. In the event it becomes apparent to FHWA during Project development that the schedule from NOI to ROD would be more than 2 years, FHWA may seek a modification to lengthen the schedule in accordance with 23 U.S.C. 139(g)(1)(D).

• The target date for the Draft EIS is early 2026.

• A public hearing will be held during the Draft EIS 45-day public comment period.

• The target date for the combined Final EIS and ROD is April 2026.

• A Section 404 permit decision from the USACE is expected in 2028, dependent on the timing of final design and construction. See the SDD for additional schedule details.

Request for Identification of Potential Alternatives, Information, and Analyses Relevant to the Proposed Action

To confirm that a full range of transportation issues related to the study will be addressed and potential issues are identified, FHWA invites comments and suggestions from all interested parties. The Project team requests comments and suggestions on the potential alternatives and associated impacts, and the identification of relevant information, studies, or analyses concerning impacts affecting the quality of the human environment not previously identified during the scoping phase. The purpose of this request is to bring additional relevant comments, information, and analyses to the agency's attention, to enable the agency to make maximum use of this additional information in the decision-making process. Comments may be submitted according to the instructions in the ADDRESSES section of this Notice. Comments must be received by May 15, 2024.

Authority: 42 U.S.C. 4321 et seq.; 23 U.S.C. 139; 23 CFR part 771.

Susan M. Wimberly,
Deputy Division Administrator, FHWA Minnesota Division, St. Paul, Minnesota.

[FR Doc. 2024-07709 Filed 4-12-24; 8:45 am]

BILLING CODE 4910-22-P